DEPARTMENT OF COMMERCE

National Oceanic and Atmospheric Administration

[Docket No.: 030602141-6087-37; I.D. 061505A]

RIN 0648-ZB55

Availability of Grant Funds for Fiscal Year 2006; Correction

AGENCY: National Oceanic and Atmospheric Administration (NOAA), Department of Commerce (DOC).

ACTION: Notice; availability of grant funds; correction.

SUMMARY: This notice corrects two errors contained in the notice of availability of funds published in the Federal Register on March 27, 2006. That notice announced two project competitions: the National Sea Grant College Program/Aquatic Invasive Species Program competition and the National Sea Grant College Program/Climate Program Office. This notice corrects an incorrect application deadline for the National Sea Grant College Program/Aquatic Invasive Species Program competition, and an incorrect Federal Opportunity Number listed for the National Sea Grant College Program/Climate Program Office competition.

DATES: Proposals for the National Sea Grant College Program/Aquatic Invasive Species Program competition must be received no later than 5 p.m. Eastern Time, April 24, 2006.

SUPPLEMEMTARY INFORMATION:

Correction

The announcement for the National Sea Grant College Program/Aquatic Invasive Species Program competition (71 FR 15171, March 27, 2006) listed the application deadline as April 13, 2006. The correct application deadline is 5 p.m. Eastern Time, April 24, 2006.

The announcement for the National Sea Grant College Program/Climate Program Office competition (71 FR 15171, March 27, 2006) listed the Federal Opportunity Number as “OA-SG-2006-2000586”. The correct Federal Opportunity Number is “OAR-SG-2006-2000657”.

Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 29, 2006.
Mark E. Brown,
Chief Financial Officer, Office of Oceanic and Atmospheric Research, National Oceanic and Atmospheric Administration.

[FR Doc. E6-4795 Filed 3-31-06; 8:45 am]

BILLING CODE 3510-12-P